DEPARTMENT OF THE INTERIOR

National Park Service

[NPS-NER-HPPC-8471; 1843-PAGR-409]

Environmental Impact Statement and General Management Plan, Paterson Great Falls National Historical Park, NJ

AGENCY: National Park Service, Interior.

ACTION: Notice of intent.

SUMMARY: The National Park Service (NPS) announces its intent to prepare a General Management Plan and Environmental Impact Statement (GMP/EIS) for Paterson Great Falls National Historical Park (NHP), New Jersey.

In the park's enabling legislation, Congress established the Paterson Great Falls NHP Advisory Commission to advise in the development and implementation of the GMP. The Paterson Great Falls NHP Advisory Commission will be involved early in the planning process and will remain actively involved throughout the development of the plan. Prepared by planners in the NPS Northeast Region, with assistance from advisors and consultants, the GMP/EIS will propose a long-term approach to managing Paterson Great Falls NHP.

DATES: The place and time of public scoping meetings will be announced by the NPS and noticed in local newspapers serving the area. Scoping and other periodic public meeting notices and information regarding the GMP/EIS will also be placed on the NPS Planning, Environment and Public Comment (PEPC) Web site (http://parkplanning.nps.gov/pagr) for continuing public review and comment.

ADDRESSES: Information related to ongoing public involvement opportunities will be provided online at the Paterson Great Falls NHP Web site (http://www.nps.gov/pagr) and on the NPS PEPC Web site (http://parkplanning.nps.gov/pagr). Requests to be added to the project mailing list may be made electronically through the Paterson Great Falls NHP Web site or by directing requests to the contact listed below.

FOR FURTHER INFORMATION CONTACT: Helen Mahan, Community Planner/Team Leader, National Park Service, Park Planning and Special Studies, 200 Chestnut Street, Philadelphia, PA 19106, Telephone: (215) 597-6483.

SUPPLEMENTARY INFORMATION: Consistent with applicable laws and regulations, the park's mission, and NPS policy, alternatives will be developed to guide the management of the site over the next 15 to 20 years. The alternatives will incorporate various zoning and management prescriptions to ensure resource protection and public enjoyment of the site. Following the process outlined under NEPA, a Draft GMP/EIS will be issued for public review and comment that evaluates the alternatives and analyzes the environmental consequences that could result from implementing any of the alternatives. Once all comments have been reviewed, a Final GMP/EIS identifying the agency's preferred alternative will be released for a 30-day no-action period, followed by a Record of Decision signed by the Northeast Regional Director selecting the alternative that will be implemented as the final approved GMP for Paterson Great Falls NHP.

The public is invited to express views and to identify issues and concerns about the long-term management of Paterson Great Falls NHP early in the process through public meetings and other media; and will have an opportunity to review and comment on a draft GMP/EIS. Public scoping meetings will be scheduled and will consist of a discussion of the GMP/EIS process, including ways that the public can be involved in providing and receiving information, and reviewing and commenting upon the draft GMP/EIS.

Before including your address, phone number, email address, or other personal identifying information in your comment, you should be aware that your entire comment—including your personal identifying information—may be made publicly available at any time. While you can ask us in your comment to withhold your personal identifying information from public review, we cannot guarantee that we will be able to do so.

Dated: November 4, 2011.
Gay Vietzke,
Deputy Regional Director for Park Operations, Northeast Region, National Park Service.

[FR Doc. 2011-29206 Filed 11-10-11; 8:45 am]

BILLING CODE 4310-25-P